DEPARTMENT OF THE TREASURY

Federal Law Enforcement Training Center

FLETC—Cheltenham, MD; Notice of Decision—Finding of No Significant Impact

AGENCY: Federal Law Enforcement Training Center, Treasury.

ACTION: Notice of decision—finding of no significant impact.

SUMMARY: Notice is hereby given that the Federal Law Enforcement Training Center (FLETC), pursuant to the National Environmental Policy Act of 1969 (NEPA), the Council on Environmental Quality Regulations for Implementing the National Environmental Policy Act (40 CFR parts 1500-1508), and Department of the Treasury Directive 75-02 (Department of the Treasury Environmental Quality Program), has issued a Finding of No Significant Impact (FONSI) related to the Environmental Assessment (EA) for the renovation of the former Naval Communications Detachment Cheltenham, MD to provide a law enforcement training and requalification facility (FLETC—Cheltenham) for use by a wide variety of federal, state, and local agencies located in the metropolitan Washington, DC area. The proposed action includes demolition and renovation of existing buildings for use as classrooms, simulators, locker facilities, storage, etc., and construction of a free-standing, completely enclosed, environmentally safe indoor firearms training range and an outdoor vehicle training range. Vegetation manipulation will occur for aesthetic purposes, wildlife habitat improvement, wildfire hazard control, and insect/disease reduction.

The EA has been prepared in accordance with NEPA and Department of the Treasury requirements, to determine whether or not significant environmental impacts are anticipated from the Proposed Action and to assess mitigation measures utilized to avoid potential adverse impacts. No substantive comments have been received from the public, community organizations, or agencies following the public comments period for the EA that ended on January 16, 2002. Based on the analysis of the EA, the Department of the Treasury has determined that the proposed development of the FLETC—Cheltenham facility at Cheltenham, Maryland, utilizing the Proposed Action, does not constitute a “major federal action significantly affecting the quality of the human environment” when considered individually or cumulatively in the context of the referenced Act, including both direct and indirect impacts. The project will not significantly impact soils, air quality, water resources, vegetation, biological resources, noise, threatened or endangered species or their critical habitat, transportation systems, or the surrounding population. Therefore, a FONSI has been issued for this project, and the preparation of an Environmental Impact Statement is not required.

DATES: The FONSI was signed on March 1, 2002.

ADDRESSES: FLETC—Cheltenham, 9000 Commo Road, Cheltenham, MD 20623-5000.

FOR FURTHER INFORMATION CONTACT: Susan Shaw, NEPA Coordinator/Project Manager, FLETC, at (912) 261-4557. Ms. Shaw's e-mail address is sshaw@fletc.treas.gov. Information is also available from Bob Smith, Chief, Cheltenham Operations at (301) 868-5830. Mr. Smith's e-mail address is rsmith@fletc.treas.gov.

SUPPLEMENTARY INFORMATION: The Federal Law Enforcement Training Center has a mission of providing high quality, cost-effective training of federal law enforcement personnel. Providing these requalification services in the Washington, DC area will significantly reduce the need for Washington, DC area law enforcement agencies to travel to the FLETC—Glynco, GA facility, reducing associated costs and time demands.

The FLETC—Cheltenham facility is located approximately 15 miles southeast of Washington, DC, in Prince George's County, MD. The facility is situated east of Maryland Route 5 and west of Maryland Route 301, approximately 3 miles south of Andrews Air Force Base.

Authority: The Council on Environmental Quality's National Environmental Policy Act, 40 CFR parts 1500 et seq.

Dated: March 1, 2002.
Bruce Bowen,
Assistant Director, Office of Compliance, Federal Law Enforcement Training Center.

[FR Doc. 02-5553 Filed 3-7-02; 8:45 am]

BILLING CODE 4810-32-P